DEPARTMENT OF COMMERCE

Foreign-Trade Zones Board

[A(32b)-3-2011]

Foreign-Trade Zone 45—Portland, OR Expansion of Manufacturing Authority Epson Portland, Inc. (Inkjet Ink); Notice of Approval of Restricted Authority

On December 22, 2011, the Port of Portland, grantee of Foreign-Trade Zone (FTZ) 45, requested to expand the scope of manufacturing authority approved within Subzone 45F, on behalf of Epson Portland, Inc. (EPI), in Hillsboro, Oregon. The request involved the use of privileged foreign (PF) status (19 CFR 146.41) inputs in manufacturing of ink for inkjet printer cartridges. Notice was given in the Federal Register inviting public comment (A(32b)-3-2011, 76 FR 81475-81476, 12/28/2011).

Section 400.32(b)(1) of the FTZ Board's regulations (15 CFR part 400) allows the Assistant Secretary for Import Administration to act for the Board in making decisions on new manufacturing authority when the zone benefits sought do not involve the election of non-privileged foreign status on items involving inverted tariffs. Pursuant to that regulatory provision, on March 8, 2012, the Assistant Secretary for Import Administration approved authority to include the use of certain PF status inputs in the manufacturing of ink for inkjet printer cartridges within Subzone 45F, subject to the FTZ Act (19 U.S.C. 81a-81u) and the Board's regulations, including Section 400.28.

The applicant's request for broader authority, including the manufacturing of inkjet ink involving foreign-sourced inputs that would be admitted to the subzone under nonprivileged foreign (NPF) status (19 CFR 146.42), will continue to be reviewed and processed under FTZ Docket 7-2012 (77 FR 4006, 1/26/2012).

Dated: March 20, 2012.
Andrew McGilvray,
Executive Secretary.

[FR Doc. 2012-7272 Filed 3-23-12; 8:45 am]

BILLING CODE P